DEPARTMENT OF COMMERCE

International Trade Administration

[A-307-820, A-533-823, and A-834-807]

Silicomanganese from Kazakhstan, India and Venezuela; Notice of Postponement of Preliminary Determinations in Antidumping Duty Investigations

AGENCY: Import Administration, International Trade Administration, Department of Commerce.

ACTION: Notice of postponement of preliminary determinations in antidumping duty investigations.

SUMMARY: The Department of Commerce (“the Department”) is postponing the preliminary determinations in the antidumping duty investigations of silicomanganese from Kazakhstan, India, and Venezuela from September 13, 2001 until no later than October 15, 2001. This postponement is made pursuant to section 733(c)(1)(A) of the Tariff Act of 1930, as amended by the Uruguay Round Agreements Act.

EFFECTIVE DATE: August 31, 2001.

FOR FURTHER INFORMATION CONTACT: Jean Kemp (Kazakhstan), at (202) 482-4037, Sally Gannon (India), at (202) 482-0162, and Robert James (Venezuela), at (202) 482-0649, Import Administration, International Trade Administration, U.S. Department of Commerce, 14th Street and Constitution Avenue, NW., Washington DC 20230.

SUPPLEMENTARY INFORMATION:

Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the regulations codified at 19 CFR Part 351 (2000).

Postponement of Due Date for Preliminary Determinations

On April 26, 2001, the Department initiated antidumping duty investigations of imports of silicomanganese from Kazakhstan, India, and Venezuela. The notice of initiation stated that we would issue our preliminary determinations no later than 140 days after the date of initiation. See 66 FR 22209 (May 3, 2001). Currently, the preliminary determinations in these investigations are due on September 13, 2001.

On July 16, 2001, petitioners alleged, pursuant to section 733(e)(1) of the Act and 19 CFR 351.206, that critical circumstances exist with respect to imports of silicomanganese from India. On June 28, 2001 and July 5, 2001, respondent Transnational Company Kazchrome (“Kazchrome”) in the Kazakh silicomanganese investigation and the Government of Kazakhstan, respectively, requested revocation, effective January 1, 2000, of Kazakhstan's non-market economy status under section 771(18) of the Act and graduation to a market economy. Also, on July 12, 2001, Kazchrome requested that the Department make a determination that the silicomanganese industry in Kazakhstan operates as a market-oriented industry.

On August 17, 2001, petitioners made a timely request pursuant to 19 CFR 351.205(e) for a 30-day postponement, pursuant to section 733(c)(1)(A) of the Act. Petitioners stated that a postponement of the preliminary determinations is necessary in order to allow the Department to conduct more thorough investigations and to issue preliminary determinations based on a more complete record.

Under section 733(c)(1)(A) of the Act, if the petitioner makes a timely request for an extension of the period within which the preliminary determination must be made under subsection (b)(1), then the Department may postpone making the preliminary determination under subsection (b)(1) until not later than the 190th day after the date on which the administering authority initiates an investigation. Therefore, in accordance with petitioners' request for a postponement, the Department is postponing the preliminary determinations in these investigations for 30 days. Because the 30th day falls on a non-business day, these preliminary determinations will be due no later than October 15, 2001.

This notice is issued and published pursuant to section 733(c)(2) of the Act and 19 CFR 351.205(f).

Dated: August 24, 2001.
Richard W. Moreland,
Acting Assistant Secretary for Import Administration.

[FR Doc. 01-21970 Filed 8-30-01; 8:45 am]

BILLING CODE 3510-DS-P